DEPARTMENT OF AGRICULTURE

Forest Service

Natural Areas Trails Environmental Impact Statement

AGENCY: Forest Service, USDA.

ACTION: Notice of Intent to Prepare an Environmental Impact Statement.

SUMMARY: The Department of Agriculture, Forest Service will prepare an Environmental Impact Statement (EIS) to analyze seven Natural Areas for designation of hiker/equestrian trails on the Shawnee National Forest and to amend the Shawnee Natural Forest Land and Resource Management Plan (LRMP) to increase trail density standards in Management Area (MA) 5.1.

Proposed Federal Action

The proposed Federal action includes:

(1) Designation trails for hiker/equestrian use in or around three natural areas, and allowing construction, reconstruction and maintenance on the trails. The analysis will include four other natural areas although additional specific trail locations are not being proposed in those areas.

(2) Amending the LRMP to increase the Forest Service (FS) system trail density standards in MA 5.1 (Wilderness) from 1-mile of trail per square mile to 2-miles of trail per square mile.

A more specific description follows: Maps of the proposed management action will be made available for viewing and photocopying specific areas of interest at each of the Shawnee National Forest (NF) offices. Electronic viewing is proposed to be available by May 10, 2000 on the Shawnee NF website: www.fs.fed.us/r9/shawnee.

(1) Natural Area Trails—The proposed Federal action includes Forest System trail proposals for hiker/equestrian designation in Jackson Hollow, Double Branch Hole and Lusk Creek (Ecological/Zoological) Natural Areas. Hiker/equestrian trails have already been designated in Garden of the Gods, and LaRue Pine Hills Natural Areas within corroders shown on the Trail Corridor Map attached to the ALRMP of 1992. There are currently no proposed trail locations for Little Grand Canyon, Bulge Hole or the portion of the Lusk Creek Zoological area lying south of the Eddyville-Golconda blacktop.

Based upon a site-specific review of the trail corridors suggested on the Trail Plan Corridor Map in the LRMP 1992 Amendment (ALRMP), designation of hiker/equestrian trails is not possible in Little Grand Canyon and Bulge Hole Natural Areas for the following reasons: (a) The Trail Map did not recognize the cliff and deep drainages which prohibit the north-south location of a trail in Little Grand Canyon. In addition, annual flooding would make trail construction and maintenance for equestrian use impractical; (b) extremely steep terrain in Bulge Hole makes an equestrian trail proposal expensive and impractical, and (c) there was no evidence of user-created equestrian trail routes in either of these areas prior to closure. There appears to be little or no evidence of equestrian use near the Lusk Creek Zoological Area south of the Eddyville-Golconda blacktop. The Shawnee is proposing no additional trails at this time in that area. Suggestions for the Bulge Hole Ecological Area, the Little Grand Canyon Ecological Area, and the Lusk Creek Zoological (south of the Eddyville-Golconda blacktop) that surface during the scoping process may assist in the development of alternatives.

Within all Natural Areas (Management Area 8.2) equestrian use is restricted to designated Forest Service system trails. Maps of proposed trails can be viewed at each of the Shawnee National Forest offices. A decision to designate hiker/equestrian trails would include future construction, reconstruction and maintenance of the trails using equipment, where appropriate, or by hand.

(2) Amending the ALRMP trail density standards in MA 5.1 (Wilderness) from 1 mile of trail per square mile to 2 miles of trail per square mile. (One square mile is equivalent to 640 acres. Two miles of trail would occupy 1 to 2 acres.) This action would allow the designation of the proposed trails in and around Natural Areas (MA 8.2) in this management area. In addition, at the time of the signing of the ALRMP in 1992, designated Forest Service system trails were within the trail density standards. However, the Forest Plan Trail Corridor Map identifies potential trail corridors that would exceed the trail density standards, if implemented.

Decision to be made are whether or not to:

(1) Designate, construct, reconstruct, maintain equestrian/hiker trails in or around seven natural areas;

(2) Amend the ALRMP to increase trail density standards in MA 5.1 from 1 mile per square mile to 2 miles per square mile; and

(3) The decision to be made includes the Forest Supervisor's approval of site-specific mitigation and/or monitoring standards.

Alternatives—In preparing the environmental impact statement the Forest Service will consider a reasonable range of alternatives to the proposed action, including the “no action” alternative. The no action alternative will be the continuation of implementing the ALRMP, 1992, and all current laws, regulations, and Forest Orders, which apply. In the no action alternative, no additional Forest Service system hiker/equestrian trails would be designated in or around the Natural Areas named above, other than those already designated; and Forest Service system trail density standards would not change, limiting the total number of miles of system trails allowable in MA 5.1 around Natural Areas within Wilderness. The no action alternative is the baseline against which the effects of other alternatives are compared, and represents the present course until the action is changed.

In addition to the no action alternative, other alternatives will be considered depending on the types of issues received from the public. Possible alternatives may include other locations for Natural Area trails and different Forest Service system trail densities. These as well as other alternatives based on public comments may be analyzed. Suggestions on later natives that meet the purpose and need for the proposed Federal action are welcome.

Purpose and Need for the Action—The purpose of this proposal is to provide a quality recreational experience for equestrian users and hikers on designated trails in and around Natural Areas (MA 8.2) while protecting their unique values. Management Prescription 8.2 provides for the preservation, protection and enhancement of the unique features found within these Natural Areas. A Forest Order issued by the Forest Supervisor has closed all Natural Areas to equestrian use except on designated trails (Forest System Trails designated for equestrian use). The ALRMP of 1992 Trail Corridor Map displays potential trail corridors in seven Natural Areas. In some cases trails have already been designated on locations shown on the Trail Corridor Map. The proposed action is to designate, construct and maintain additional hiker/equestrian trails within the Natural Areas mentioned above in accordance with the ALRMP of 1992.

Issues—Issues that have been identified relating to this proposal include:

—Soil erosion and sedimentation as a result of equestrian use;

—Equestrian access to the scenic places within natural areas. There are 80 natural areas. Seven natural areas are being analyzed for the designation of hiker/equestrian trails.

—Impacts of equestrian use on native plant communities and threatened and endangered species within the natural areas;

—Conflicts of equestrian use on the hiker experiences within the natural areas and in the Wilderness;

—Conflicts and safety concerns of equestrian use in a popular rock climbing area at Jackson Falls;

—Social impacts of high densities of user-created and system trails in Wilderness;

—Inadequate numbers of marked and maintained Forest System trail opportunities for all users, particularly for equestrian users;

—Adequate Forest System trail infrastructure to accommodate equestrian use in all seasons;

—Equestrian use on user-created trails that have not been designed specifically for this use.

Scoping and Public participation—The initial scoping period begins May 1, 2000 and ends June 15, 2000. We will meet with the public on May 18, 2000 at the Marion Hotel and Conference Center, 2600 West DeYoung, Marion, Illinois from 2 pm to 7 pm and again with the issuance of the Draft EIS with the purpose of addressing questions or concerns, and obtaining new input. We will also meet with the public at other points during the analysis as the need arises. The Draft Environmental Impact Statement is anticipated to be available by January, 2001. The Final EIS is anticipated in July, 2001. The Forest Service invites written comments that identify and/or clarify issues relating to the proposal. General opinions, not specific to the proposals, have limited usefulness. The scoping process includes:

1. Identifying potential issues.

2. Identifying issues to be analyzed in depth.

3. Eliminating insignificant issues or those which have been covered by a previous relevant environment analysis.

4. Exploring additional alternatives.

5. Identifying potential environmental effects of the proposed action and alternatives (i.e., direct, indirect, and cumulative effects).

6. Determining potential cooperative agencies.

Initial scoping letters have been sent, and comments received on the Double Branch Hole and Jackson Hollow proposed Natural Area trails EA. The comments already received for these EA's and further analysis will be incorporated into this EIS.

ADDRESSES: Submit written comments and suggestions related to the scope of analysis to Richard Johnson, Vienna Ranger District, P.O. Box 37, Vienna, IL 62995 or sent electronic comments to mlross@fs.fed.us subject: Natural Area Trails EIS.

FOR FURTHER INFORMATION CONTACT: Forest L. Starkey, Forest Supervisor, Shawnee National Forest, telephone: (618) 253-7114, or Richard Johnson, EIS Team Leader, Vienna Ranger District, P.O. Box 37, Vienna, IL. 62995, (618) 658-2111, email: mlross@fs.fed.us. A detailed scoping package is available by contacting Richard Johnson at the address listed above or on the Shawnee National Forest's website at http://www.fs.fed.us/r9/shawnee/.

SUPPLEMENTARY INFORMATION: Public participation will be an integral component of the study process, and will be especially important at several points during the analysis. The first is during the scoping process. The Forest Service will be seeking information, comments and assistance from Federal, State, County, and local agencies, individuals and organizations that may be interested in or affected by the proposed activities. The scoping process will include: (1) Identification of potential issues, (2) identification of issues to be analyzed in depth, and (3) elimination of insignificant issues or those which have been covered by a previous environmental review. Written scoping comments will be solicited through a scoping package that will be sent to the project mailing list and the local newspaper. For the Forest Service to best use the scoping input, comments should be received by June 15, 2000. The Shawnee National Forest Amended Forest Land and Resource Management Plan, was approved by Regional Forester, Floyd J. Marita, in 1992. Within Natural Areas (8.2 Management Areas) equestrian use is prohibited except on designated trails. LaRue Pine Hills, Garden of the Gods and Lusk Creek Zoological Natural Areas have Forest System trails designated for hikers and equestrians. In addition, Little Grand Canyon has trails designated for hiking only. Lusk Creek Zoological Area is the Creek from bank to bank. No new equestrian trails have been designated in Natural Areas.

Based on the results of scoping and the resource conditions within the project area, alternatives (including a no-action alternative) will be developed for the Draft EIS. The Draft EIS is projected to be filed with the Environmental Protection Agency (EPA) in December 2000. The Final EIS is anticipated in July, 2001.

The comment period on the Draft EIS will be 45 days from the date that the EPA publishes the notice of availability in the Federal Register.

At this early stage, the Forest Service believes it is important to give reviewers notice of several court rulings related to public participation in the environmental review process. First, reviewers of Draft EISs must structure their participation in the environmental review of the proposal, so that it is meaningful and alerts an agency to the reviewer's position and contentions. Vermont Yankee Nuclear Power Corp. v. NRDC, 435 U.S. 519,553, (1978). Also, environmental objections that could have been raised at the draft EIS stage, but that are not raised until the completion of the final EIS, may be waived or dismissed by the courts. City of Angoon v. Hodel, 803 F.2nd 1016, 1022 (9th Cir. 1986) and Wisconsin Heritages, Inc. v. Harris, 490 F.Supp. 1334, 1338 (E.D. Wis. 1980). Because of these court rulings, it is very important that those interested in this proposed action participate by the close of the 45-day comment period on the Draft EIS, so that substantive comments and objections are made available to the Forest Service at a time when they can be meaningfully considered and respond to them in the Final EIS.

To assist the Forest Service in identifying and considering issues and concerns of the proposed action, comments on the Draft EIS should be as specific as possible. It is also helpful if comments refer to specific pages or chapters of the draft statement. Comments may address the adequacy of the draft EIS, or the merits of the alternatives formulated and discussed in the statement. Reviewers may wish to refer to the Council on Environmental Quality Regulations for implementing the procedural provisions of the National Environmental Policy Act in 40 CFR 1503.3, in addressing these points.

Lead and Cooperating Agencies: The Shawnee National Forest manages approximately 277,000 acres within its proclomation boundaries. It is the lead agency for preparation of this document.

Responsible Official: Forrest L. Starkey, Forest Supervisor, Shawnee National Forest, is the responsible official. In making the decision, the responsible official will consider the comments; responses; disclosure of environmental consequences; and applicable laws, regulations, and policies. The responsible official will state the rationale for the chosen alternative in the Record of Decision.

Dated: April 21, 2000.
Forrest L. Starkey,
Forest Supervisor.

[FR Doc. 00-10776 Filed 4-28-00; 8:45 am]

BILLING CODE 3410-11-M